DEPARTMENT OF THE INTERIOR

Fish and Wildlife Service

[FWS-R4-R-2008-N0028; 40136-1265-0000-S3]

Red River National Wildlife Refuge, Caddo, Bossier, Desoto, Red River, and Natchitoches Parishes, LA

AGENCY: Fish and Wildlife Service, Interior.

ACTION: Notice of availability: draft comprehensive conservation plan and environmental assessment; request for comments.

SUMMARY: We, the Fish and Wildlife Service (Service), announce the availability of a draft comprehensive conservation plan and environmental assessment (Draft CCP/EA) for Red River National Wildlife Refuge for public review and comment. In this Draft CCP/EA, we describe the alternative we propose to use to manage this refuge for the 15 years following approval of the Final CCP.

DATES: To ensure consideration, we must receive your written comments by May 14, 2008.

ADDRESSES: Requests for copies of the Draft CCP/EA should be addressed to: Tina Chouinard, Natural Resource Planner, Fish and Wildlife Service, 6772 Highway 76 South, Stanton, Tennessee 38069. The Draft CCP/EA may also be accessed and downloaded from the Service's Internet Site: http://southeast.fws.gov/planning. Comments on the Draft CCP/EA may be submitted to the above address or via electronic mail to: tina_chouinard@fws.gov.

FOR FURTHER INFORMATION CONTACT: Tina Chouinard; Telephone: 731/780-8208; or Fax: 731/772-7839.

SUPPLEMENTARY INFORMATION:

Introduction

With this notice, we continue the CCP process for Red River National Wildlife Refuge. We started the process through a notice in the Federal Register on March 13, 2006 (71 FR 12710).

The Red River National Wildlife Refuge is a unit of the North Louisiana National Wildlife Refuge Complex. The refuge was signed into existence on October 13, 2000, with the passage of the Red River National Wildlife Refuge Act. With land acquisition, the refuge was formally established in August 2002. There are three purposes of the refuge, as stated in the Red River National Wildlife Refuge Act. These are to: (1) Provide for the restoration and conservation of native plants and animal communities on suitable sites in the Red River basin, including restoration of extirpated species; (2) provide habitat for migratory birds; and (3) provide technical assistance to private landowners in the restoration of their lands for the benefit of fish and wildlife.

According to legislation, the refuge is approved for up to approximately 50,000 acres of Federal lands and waters along that section of the Red River between Colfax, Louisiana, and the Arkansas State line, a distance of approximately 120 miles. The refuge growth will be strategically planned within five focus areas that will each have a management unit of the Red River National Wildlife Refuge. These focus areas are: Lower Cane River (Natchitoches Parish); Spanish Lake Lowlands (Natchitoches Parish); Bayou Pierre Floodplain (Desoto and Red River Parishes); Headquarters Site (Bossier Parish); and Wardview (Caddo Parish).

Currently, the Service has acquired 9,787 acres, with 40,213 acres remaining to be purchased. The lands within the five areas will be acquired through a combination of fee title purchases from willing sellers and conservation easements, leases, and/or cooperative agreements from willing landowners. Currently, fee title lands have been purchased within portions of all the focus areas, with the exception of Wardview.

Historically, the Red River Valley was forested with bottomland hardwoods, cypress sloughs, and shrub swamps; however, for the last three decades, the Red River Valley has been utilized extensively for agricultural production, and, as a result, has lost almost all of its forest cover. The river itself was very turbid, and its wildlife and fishery habitat was poor compared to other parts of the State. After completion of the Red River Waterway Project in 1994, water levels in the river became higher and more constant, greatly reducing its turbidity. Water quality improved and with seasonal retention of water levels, a rich diversity of aquatic flora and fauna has developed.

Increased water levels on the river also improved some adjacent habitats. Flooded timber and farm fields with wet depressions are now common, providing habitat for migratory birds. The refuge has been involved in several reforestation projects and has improved moist-soil habitat. With management of this refuge in its infancy, the planning process will define priorities for current and future refuge resources and management.

Wildlife species found on the refuge are typical of forested wetlands and fields. The Red River is a historic migration corridor for migratory birds that use the Central and Mississippi Flyways on their journey to the Gulf Coast. Examples of priority species for conservation include the swallow-tailed kite, Swainson's warbler, yellow-billed cuckoo, and several species of waterfowl. Wading birds and shorebirds use the numerous sandbars, shallow flooded fields, and mudflats. Listed species include the interior least tern, which nests on riverine sandbars; the piping plover; and the possibility of the transient Louisiana black bear. Resident game and furbearer species are the typical variety of white-tailed deer, gray and fox squirrels, mink, and beaver. A variety of nongame mammals, amphibians, and reptiles are also present.

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: management of white-tailed deer, invasive species, waterfowl, and bottomland hardwood forests; refuge access; land acquisition to include a minor boundary expansion; visitor services; visitor center; watershed protection; and cultural resource protection.

CCP Alternatives, Including Our Proposed Alternative

We developed three alternatives for managing the refuge and chose Alternative C as the proposed alternative.

Alternatives

A full description of each alternative is in the Draft CCP/EA. We summarize each alternative below.

Alternative A—No Action Alternative

Red River National Wildlife Refuge is part of the Lower Mississippi River Ecosystem and is considered to be in the West Gulf Coastal Plain Bird Conservation Area. As such, it is a component of many regional and ecosystem conservation-planning initiatives. Under Alternative A, the No Action Alternative, present management of the refuge would continue at its current level of participation in these initiatives throughout the 15-year duration of the CCP. Current approaches to managing wildlife and habitats, protecting resources, and allowing for public use would remain unchanged.

The main habitat types on the refuge are bottomland hardwood forests, managed wetlands, agriculture, and moist-soil units. Under Alternative A, management would continue to work with electric utilities and partners to restore bottomland hardwood forest habitat through the “Carbon Sequestration Program.” The refuge would continue to provide habitat for thousands of wintering waterfowl and year-round habitat for wood ducks. It would also maintain the current habitat mix for the benefit of other migratory birds, shorebirds, marsh birds, and landbirds. Staff would continue existing surveys and monitor long-term population trends and health of resident species.

Currently, there are few public use and environmental education programs on the refuge. The refuge would continue to serve the public without being guided by a Visitor Services' Management Plan, relying instead on experience, general Service mandates and practices, and guidance and advice from recreation staff in the Regional Office. A new Headquarters/Visitor Center has been budgeted and would be constructed. The staff would continue to consist of one employee, the refuge manager.

Alternative B—Minimize Management and Visitor Services

Under Alternative B, there would be less management of habitat and wildlife and a reduced public use program. Biological inventorying and monitoring would be intensified and enhanced with management programs developed that could be implemented less frequently, yet still accomplish the objectives. Extensive baseline inventorying and monitoring programs would be conducted with several partners to provide a solid foundation for the current condition of refuge habitats and wildlife, while monitoring for changes in trends.

Additional research projects would be implemented through granting and partnership opportunities with other agencies and universities. An intensive inventory of bottomland hardwood forests to define current conditions and monitor natural successional changes would be implemented. Management in the bottoms would be limited so that the forest would go through natural succession, as defined in a revised Habitat Management Plan. Open fields would be allowed to go through natural succession to bottomland hardwood forests and moist-soil units would not be maintained. Management of invasive species would become a priority to establish baseline information on location and density. Partnerships would continue to be fostered for several biological programs, hunting regulations, law enforcement issues, and research projects.

Public use would be limited with custodial-level maintenance. Public use would be monitored for impacts to wildlife. An extensive survey for monitoring the deer population and its association with habitat conditions would be implemented. Fishing and hunting would continue as currently managed. Environmental education, wildlife observation, and wildlife photography would be accommodated at present levels with the addition of a Visitor Center; but access would be limited to July-October and February-April to minimize disturbance to migratory birds. Staffing would increase by five positions [e.g., wildlife biologist, maintenance worker, equipment operator, administrative officer, and a park ranger (law enforcement)] to handle the increase in biological inventory and monitoring and control of invasive species.

Alternative C—Optimize Biological Program and Visitor Services (Proposed)

Under Alternative C, the proposed alternative, the refuge would strive to optimize both its biological program and visitor services program. As explained in the Draft CCP/EA, Louisiana's Red River Valley is one of the most heavily degraded ecosystems in the State. The greatest habitat type lost was bottomland hardwood forest; therefore, bottomland hardwood forest habitat restoration and management would continue to be an important goal under this alternative. Under this alternative, the refuge would continue to participate in the Carbon Sequestration Program as described in the Draft CCP/EA. Any lands within the acquisition boundary of the refuge that have had their forest cover removed prior to 1990, would be targeted for acquisition and reforestation.

The refuge would continue to benefit resident wildlife species and would aim to increase its knowledge base about migratory birds by developing and implementing monitoring programs. It would continue to provide habitats for waterfowl, shorebirds, marsh birds, nesting colonial waterbirds, and landbirds. Resources would be used to create and/or maintain a variety of habitats compatible with historic habitat types of the Red River Valley. These would include the above-mentioned bottomland hardwood forest habitat, as well as moist prairie. Prior farming practices on lands acquired by the refuge have left, in place, a number of water control structures. These water control structures would be maintained and enhanced to control water levels on several thousand acres of refuge lands. Efforts to control invasive species would increase.

Land acquisition, reforestation, and resource protection would be intensified from the level now maintained in the No Action Alternative. The refuge would expand the approved acquisition boundary to incorporate 1,413 acres in the Spanish Lake Lowlands Unit, 87 acres in the Headquarters Unit, and 1,938 acres in the Lower Cane Unit. In the refuge's Private Lands Program, staff would work with private landowners on adjacent tracts to manage and improve habitats. The refuge would develop and begin to implement a Cultural Resources Management Plan (CRMP). Until such time as the CRMP is completed and implemented, the refuge would follow standard Service protocol and procedures in conducting cultural resource surveys by qualified professionals as needed.

Wildlife-dependent visitor services would increase under this alternative. Within three years of CCP completion, the refuge would develop a Visitor Services' Plan to be used in expanding public use facilities and opportunities on the refuge. This step-down management plan would provide overall, long-term direction and guidance in developing and running a larger public use program at Red River Refuge. Federal funds are now available to construct a Refuge Headquarters/Visitor Center at the Headquarters Unit. The new visitor center would include a small auditorium for use in talks, meetings, films, videos, and other audio-visual presentations. Alternative C would also increase opportunities for visitors by adding facilities such as photo-blinds, observation sites, and trails. Over the 15-year life of the CCP, more emphasis would be placed on environmental education and interpretation to increase the public's understanding of the importance of habitats and resources of the Red River Valley. Within five years of CCP approval, the refuge would prepare a Fishing Plan that would outline and expand permissible fishing opportunities within the refuge. A fishing pier would be constructed at the Headquarters Unit. Staff would investigate opportunities for expanding hunting possibilities.

Alternative C would provide an assistant manager, a full-time law enforcement officer, an equipment operator, a maintenance worker, a wildlife biologist, an administrative assistant, and an outdoor recreational specialist.

Next Step

After the comment period ends, we will analyze the comments and address them in the form of a final CCP and Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: February 8, 2008.
Cynthia K. Dohner,
Acting Regional Director.

[FR Doc. E8-7853 Filed 4-11-08; 8:45 am]

BILLING CODE 4310-55-P